DEPARTMENT OF ENERGY

Federal Energy Regulatory Commission

[Docket No. RP03-357-000]

Guardian Pipeline, L.L.C.; Notice of Proposed Changes in FERC Gas Tariff

May 1, 2003.

Take notice that on April 29, 2003, Guardian Pipeline, L.L.C. (Guardian), tendered for filing as part of its FERC Gas Tariff, Original Volume No. 1, revised tariff sheets listed in Appendix A attached to the filing, to be effective June 1, 2003.

Guardian states that the purpose of this filing is to make certain housekeeping changes to its tariff, enhance the delivery point tolerance under the scheduling charges provisions in its tariff, and provide for secondary point rights and overrun provisions under Rate Schedule EAW.

Guardian states that copies of this tariff filing are being served on its shippers and the Wisconsin and Illinois public service commissions.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 12, 2003.

Magalie R. Salas,
Secretary.

[FR Doc. 03-11389 Filed 5-6-03; 8:45 am]

BILLING CODE 6717-01-P